DEPARTMENT OF LABOR

Employment and Training Administration

[TA-W-82,287]

Hewlett Packard Conway, Arkansas; Notice of Investigation

Pursuant to Section 221 of the Trade Act of 1974, as amended, an investigation was initiated in response to a Trade Adjustment Assistance (TAA) petition filed on December 21, 2012 by the State of Arkansas on behalf of workers and former workers of Hewlett Packard, Conway, Arkansas. On January 25, 2013, the Department issued a Notice of Termination of Investigation because the State of Arkansas withdrew its petition in order for a petition covering a larger worker group (which included workers and former workers at the Conway, Arkansas facility) to be filed. Because the later-filed petition was withdrawn, however, the Department is re-opening the investigation of TA-W-82,287 and will issue a determination accordingly.

Signed in Washington, DC this 9th day of July, 2013.
Del Min Amy Chen,
Certifying Officer, Office of Trade Adjustment Assistance.

[FR Doc. 2013-19187 Filed 8-7-13; 8:45 am]

BILLING CODE 4510-FN-P